DEPARTMENT OF THE INTERIOR

Fish and Wildlife Service

Office of the Secretary; Renewal of the Wind Turbine Guidelines Advisory Committee

AGENCY: Fish and Wildlife Service, Interior.

ACTION: Notice of renewal.

SUMMARY: The Secretary of the Interior (Secretary), after consultation with the General Services Administration, has renewed the Wind Turbine Guidelines Advisory Committee. The Committee will provide advice and recommendations to the Secretary on developing effective measures to avoid or minimize impacts to wildlife and their habitats related to land-based wind energy facilities.

FOR FURTHER INFORMATION CONTACT: Rachel London, Division of Habitat and Resource Conservation, U.S. Fish and Wildlife Service, Department of the Interior, (703) 358-2161.

SUPPLEMENTARY INFORMATION: We are publishing this notice in accordance with the requirements of the Federal Advisory Committee Act (5 U.S.C. App.) (FACA). The Secretary certifies that he has determined that the renewal of the Committee is necessary and is in the public interest.

The Committee will conduct its operations in accordance with the provisions of the FACA. It will report to the Secretary through the Director, U.S. Fish and Wildlife Service, and will function solely as an advisory body. Committee membership includes representation from governments, wind energy development organizations, and wildlife conservation organizations.

In accordance with FACA, we have filed a copy of the Committee's charter with the Committee Management Secretariat, General Services Administration; Committee on Environment and Public Works, United States Senate; Committee on Natural Resources, United States House of Representatives; and the Library of Congress.

The certification for renewal is published below.

Certification

I hereby certify that the Wind Turbine Guidelines Advisory Committee is necessary and is in the public interest in connection with the performance of duties imposed on the Department of the Interior by Public Laws 16 U.S.C. 703-712, Migratory Bird Treaty Act; 16 U.S.C. 668-668d, Bald and Golden Eagle Protection Act; 16 U.S.C. 1531-1544, Endangered Species Act; and 42 U.S.C. 4371 et seq., National Environmental Policy Act. The Committee will assist the Department of the Interior by providing advice and recommendations on developing effective measures to avoid or minimize impacts to wildlife and their habitats related to land-based wind energy development.

Dated: October 20, 2009.
Ken Salazar,
Secretary of the Interior.

[FR Doc. E9-26015 Filed 10-28-09; 8:45 am]

BILLING CODE 4310-55-P